NUCLEAR REGULATORY COMMISSION

10 CFR Part 52

[NRC-2015-0021]

Korea Electric Power Corporation; Korea Hydro & Nuclear Power Co., Ltd. Advanced Power Reactor 1400

AGENCY: Nuclear Regulatory Commission.

ACTION: Standard design approval; issuance.

SUMMARY: The U.S. Nuclear Regulatory Commission (NRC) has issued a standard design approval (SDA) to Korea Electric Power Corporation and Korea Hydro & Nuclear Power Co., Ltd (KEPCO/KHNP) for the advanced power reactor 1400 (APR1400) standard design. The SDA allows the APR1400 standard design to be referenced in an application for a construction permit or operating license, or an application for a combined license or manufacturing license under its regulations.

DATES: The Standard Design Approval was issued on September 28, 2018.

ADDRESSES: Please refer to Docket ID NRC-2015-0021 when contacting the NRC about the availability of information regarding this document. You may obtain publicly-available information related to this document using any of the following methods:

• Federal Rulemaking Website: Go to http://www.regulations.gov and search for Docket ID NRC-2015-0021. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: William R. Ward, Office of New Reactors, telephone: 301-415-7038, email: William.Ward@nrc.gov; U.S. Nuclear Regulatory Commission, Washington DC 20555-0001.

SUPPLEMENTARY INFORMATION: The U.S. Nuclear Regulatory Commission has issued a standard design approval (SDA) to Korea Electric Power Corporation and Korea Hydro & Nuclear Power Co., Ltd (KEPCO/KHNP) for the advanced power reactor 1400 (APR1400) standard design under Subpart E, “Standard Design Approvals,” of title 10 of the Code of Federal Regulations (10 CFR) part 52, “Licenses, Certifications, and Approvals for Nuclear Power Plants.” This SDA allows the APR1400 standard design to be referenced in an application for a construction permit or operating license under 10 CFR part 50, “Domestic Licensing of Production and Utilization Facilities,” or an application for a combined license or manufacturing license under 10 CFR part 52. In addition, the Commission has issued the final safety evaluation report (FSER) (ADAMS Accession No. ML18087A364) that supports issuance of the SDA.

Issuance of this SDA signifies completion of the NRC staff's technical review of KEPCO/KHNP's APR1400 design. The NRC staff performed its technical review of the APR1400 design control document in accordance with the standards for review of standard design approval applications set forth in 10 CFR 52.139, “Standards for Review of Applications.”

On the basis of its evaluation and independent analyses, as described in the FSER, the NRC staff concludes that KEPCO/KHNP's application for standard design approval meets the applicable portions of 10 CFR 52.137, “Content of Applications; Technical Information,” and the review standards identified in 10 CFR 52.139.

Copies of the APR1400 FSER and SDA have been placed in the NRC's Public Document Room, One White Flint North, 11555 Rockville Pike, Rockville, MD 20852, for review and copying by interested persons.

Dated at Rockville, Maryland, this 5th day of October 2018.
For the Nuclear Regulatory Commission.
Andrew C. Campbell,
Deputy Director, Division of Licensing, Siting, and Environmental Analysis, Office of New Reactors.

[FR Doc. 2018-22116 Filed 10-10-18; 8:45 am]

BILLING CODE 7590-01-P